DEPARTMENT OF STATE

[Public Notice 4430]

30-Day Notice of Proposed Information Collection: Form DS-1998, Registration for the Foreign Service Officer Written Examination; OMB Control Number 1405-0008

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Extension of currently approved collection.

Originating Office: HR/REE.

Title of Information Collection: Registration for the Foreign Service Officer Written Examination.

Frequency: One application period per year.

Form Number: DS-1998.

Respondents: Registrants for the Foreign Service Officer Written Examination.

Estimated Number of Respondents: 27,585 per year.

Average Hours Per Response: 20 minutes.

Total Estimated Burden: 9,195 hrs.

Public comments are being solicited to permit the agency to:

• Evaluate whether the proposed collection of information is necessary for the proper performance of the functions of the agency, including whether the information will have practical utility.

• Evaluate the accuracy of the agency's estimate of burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Beatrice E. Smotherman, Bureau of Personnel, Examination Division, Foreign Service Written Officer Examination (202) 261-8883, U.S. Department of State, Washington, DC 20522. Public comments and questions should be directed to the State Department Desk Officer, Office of Information and Regulatory Affairs, Office of Management and Budget (OMB), Washington, DC 20530, who may be reached on (202) 395-3897.

Dated: June 24, 2003.
Ruben Torres,
Executive Director, Bureau of Human Resources, Department of State.

[FR Doc. 03-19904 Filed 8-4-03; 8:45 am]

BILLING CODE 4710-15-P